FEDERAL MARITIME COMMISSION

Ocean Transportation Intermediary License; Revocation

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 1072F.

Name: D. Lee Kraus & Company, Ltd.

Address: 713 W. Pratt Street, Baltimore, MD 21201.

Date Revoked: March 18, 2011.

Reason : Failed to maintain a valid bond.

License Number: 0453F.

Name : Competent Shipping Corporation.

Address : 271 Route 46 West, Suite C-205, Fairfield, NJ 07006.

Date Revoked: March 4, 2011.

Reason : Failed to maintain a valid bond.

License Number: 1821F.

Name : Eastern Export Company, Inc.

Address : 966 Norfolk Square, Norfolk, VA 23502.

Date Revoked: March 30, 2011.

Reason: Failed to maintain a valid bond.

License Number: 003069NF.

Name : A. H. Carter & Associates, Inc.

Address: 25706 74th Avenue S., Kent, WA 98032.

Date Revoked: March 26, 2011.

Reason: Failed to maintain valid bonds.

License Number: 3165F.

Name : Woodbridge International Forwarding, Inc.

Address: 9009 North Loop East, Suite 235, Houston, TX 77029.

Date Revoked: March 2, 2011.

Reason: Failed to maintain a valid bond.

License Number: 4358NF.

Name: Orion International Freight Forwarders, Inc.

Address: 2129 NW 86th Avenue, Miami, FL 33122.

Date Revoked: March 11, 2011.

Reason: Surrendered license voluntarily.

License Number: 4422F.

Name : C & C Group, Inc.

Address: 1928 NE. 82nd Avenue, Miami, FL 33126.

Date Revoked: March 24, 2011.

Reason: Failed to maintain a valid bond.

License Number: 015083F.

Name: Gandhi International Shipping, Inc.

Address : 2358 W. Devon Avenue, Chicago, IL 60659.

Date Revoked: March 31, 2011.

Reason : Failed to maintain a valid bond.

License Number: 16604N.

Name: Pisces Shipping, Inc. dba Pisces Container Lines.

Address: 175 North Highland Avenue, Elmhurst, IL 60126.

Date Revoked: March 3, 2011.

Reason: Failed to maintain a valid bond.

License Number: 169094N.

Name : Trans Port Agencies, Inc.

Address: 1790 Yardley-Langhorne Road, Suite 202, Yardley, PA 19067.

Date Revoked: March 26, 2011.

Reason : Failed to maintain a valid bond.

License Number: 017051N.

Name : Worldwide Shipping Corporation,

Address : 17800 Castleton Street, Suite 235, City of Industry, CA 91748.

Date Revoked: March 13, 2011.

Reason: Failed to maintain a valid bond.

License Number: 17511N.

Name: Royal Cargo Line Inc.

Address: 1928 NW. 82nd Avenue, Miami, FL 33126.

Date Revoked: March 24, 2011.

Reason: Failed to maintain a valid bond.

License Number: 019278N

Name : Nelcon Cargo Corp.

Address: 1970 NW. 82nd Avenue, Miami, FL 33126.

Date Revoked: March 29, 2011.

Reason : Failed to maintain a valid bond.

License Number: 019787N.

Name: Jam'n International Cargo Inc.

Address : 2140 East University Drive, Rancho Dominguez, CA 90220.

Date Revoked: March 4, 2011.

Reason: Failed to maintain a valid bond.

License Number: 020335N.

Name: Intercontinental Cargo Enterprises, Inc.

Address: 8501 NW. 17th Street, Suite 120, Miami, FL 33126.

Date Revoked: March 16, 2011.

Reason : Failed to maintain a valid bond.

License Number: 020339N.

Name: Coastal Maritime, Ltd.

Address: 1204 Water Birch Court, Chesapeake, VA 23323.

Date Revoked: March 30, 2011.

Reason: Failed to maintain a valid bond.

License Number: 020507F.

Name : World Appliances, Inc.

Address : 2822 Juniper Street, Fairfax, VA 22031.

Date Revoked: March 4, 2011.

Reason: Failed to maintain a valid bond.

License Number: 020653NF.

Name: Mainfreight International, Inc.

Address: 1400 Glenn Curtiss Street, Carson, CA 90746.

Date Revoked: March 29, 2011.

Reason : Failed to maintain valid bonds.

License Number: 021932N.

Name: Cargolinx Inc.

Address: 6405 NW. 36th Street, Suite 107, Miami, FL 33166.

Date Revoked: March 4, 2011.

Reason: Failed to maintain a valid bond.

License Number: 022296N.

Name : Batista Cargo Inc.

Address : 4963 Broadway, New York, NY 10034.

Date Revoked: March 26, 2011.

Reason: Failed to maintain a valid bond.

Sandra L. Kusumoto,
Director, Bureau of Certification and Licensing.

[FR Doc. 2011-10932 Filed 5-4-11; 8:45 am]

BILLING CODE 6730-01-P